DEPARTMENT OF JUSTICE

28 CFR Part 16

[CPCLO Order No. 005-2015]

Privacy Act of 1974; Implementation; Correction

AGENCY: Department of Justice.

ACTION: Notice of proposed rulemaking; correction.

SUMMARY: The Department of Justice (the Department or DOJ) published a proposed rule in the Federal Register on March 26, 2015 (80 FR 15951), which added a new section to the Department's Privacy Act exemption regulations to exempt a DOJ-wide system of records from certain subsections of the Privacy Act. The heading of the document referenced “CPCLO Order No. 004-2014” when the Chief Privacy and Civil Liberties Order (CPCLO) number should read 004-2015. This document corrects the CPCLO number.

DATES: This correction is effective on April 30, 2015.

FOR FURTHER INFORMATION CONTACT: Robin Moss, Privacy Analyst, 202-514-8568.

Correction

In the Federal Register of March 26, 2015, in FR Doc. 2015-06938, on page 15951, in the heading, second line, correct the number to read:

[CPCLO Order No. 004-2015]

Dated: April 2, 2015.
Kristi Lane Scott,
Deputy Director, Office of Privacy and Civil Liberties, United States Department of Justice.

[FR Doc. 2015-10106 Filed 4-29-15; 8:45 am]

BILLING CODE 4410-FB-P